DEPARTMENT OF THE TREASURY

Internal Revenue Service

26 CFR Parts 1 and 31

[REG-139255-08]

RIN 1545-BI51

Information Reporting for Payments Made in Settlement of Payment Card and Third Party Network Transactions; Correction

AGENCY: Internal Revenue Service (IRS), Treasury.

ACTION: Correction to a notice of proposed rulemaking.

SUMMARY: This document contains corrections to a notice of proposed rulemaking (REG-139255-08) that were published in the Federal Register on Tuesday, November 24, 2009 (74 FR 61294) relating to information reporting requirements, information reporting penalties, and backup withholding requirements for payment card and third party network transactions.

FOR FURTHER INFORMATION CONTACT: Barbara Pettoni, (202) 622-4910 (not a toll-free number).

SUPPLEMENTARY INFORMATION:

Background

A notice of proposed rulemaking (REG-139255-08) that is the subject of this document is under sections 3406, 6041, 6050W, and 6051 of the Internal Revenue Code.

Need for Correction

As published, a notice of proposed rulemaking (REG-139255-08) contains errors that may prove to be misleading and are in need of clarification.

Correction of Publication

Accordingly, the publication of a notice of proposed rulemaking (REG-139255-08), which was the subject of FR Doc. E9-28076, is corrected as follows:

§ 1.6050W-1 [Corrected]

1. On page 61302, column 3, paragraph (e) Example 3., lines 1 through 3, the language “Example 3. Automated clearinghouse network. A operates an automated clearinghouse (“ACH”) network that merely” is corrected to read “Example 3. Automated clearing house network. A operates an automated clearing house (“ACH”) network that merely”.

§ 31.3406-0 [Corrected]

2. On page 61304, column 2, in the instructional paragraphs, first entry of Paragraph 5, the language “1. Entries for § 31.3406(b)(3)-5(a) and (b) are added.” is corrected to read “1. Entries for § 31.3406(b)(3)-5(a), (b) and (c) are added.”.

§ 31.3406(b)(3)-5 [Corrected]

3. On page 61304, column 2, at the bottom of the column, paragraph (c) “Effective/applicability date.” is added.

LaNita Van Dyke,
Chief, Publications and Regulations Branch, Legal Processing Division, Associate Chief Counsel (Procedure and Administration).

[FR Doc. E9-30551 Filed 12-22-09; 8:45 am]

BILLING CODE 4830-01-P